DEPARTMENT OF VETERANS AFFAIRS

[Docket No. VA-2026-VBA-0067]

38 CFR Part 4

RIN 2900-AS49

Rescission of Interim Final Rule, Evaluative Rating: Impact of Medication

AGENCY: Department of Veterans Affairs (VA).

ACTION: Final rule; rescission of interim final rule.

SUMMARY: VA is rescinding the interim final rule, Evaluative Rating: Impact of Medication, published on February 17, 2026, and restoring the prior regulatory text. This rescission is effective immediately upon publication.

DATES: This final rule rescinding the interim final rule, published at 91 FR 7118 on February 17, 2026, is effective February 27, 2026.

FOR FURTHER INFORMATION CONTACT: Ethan Kalett, Executive Director, Office of Regulatory Oversight and Management, (202) 461-9700.

SUPPLEMENTARY INFORMATION: VA announces an immediate rescission of the interim final rule, Evaluative Rating: Impact of Medication, published in the Federal Register on February 17, 2026. 91 FR 7118. VA issued the rule to clarify existing policy and protect veterans' benefits in the wake of an ongoing court action. VA always takes veterans' concerns seriously and recognizes that many commenters construed the interim final rule as something that could result in adverse consequences.

VA remains committed to its mission of ensuring that every claimant applying for benefits—especially veterans who have earned disability compensation through their honorable service to the Nation—receives all benefits to which they are entitled under the law as expeditiously as possible. To ensure that VA can fulfill this mission while maintaining the trust and confidence of our Nation's veterans, as well as their families, caregivers, and survivors, the Department hereby advises that the interim final rule is rescinded effective immediately.

Good Cause Justification: Under 5 U.S.C. 553(b)(B) and (d)(3), VA finds that prior notice and comment for this rescission is impracticable and contrary to the public interest. Some stakeholders have expressed uncertainty about the interim final rule's effect on claims, and leaving the rule in place during a lengthy rulemaking process could undermine confidence in the benefits system. Immediate rescission ensures continuity in adjudication and preserves the status quo. This action does not resolve the legal questions now before the courts; it simply restores prior regulatory text to maintain stability.

List of Subjects in 38 CFR Part 4

Disability benefits, Veterans.

Signing Authority

Douglas A. Collins, Secretary of Veterans Affairs, approved this document on February 24, 2026, and authorized the undersigned to sign and submit the document to the Office of the Federal Register for publication electronically as an official document of the Department of Veterans Affairs.

Jennifer Williams,
Alternate Federal Register Liaison Officer, Department of Veterans Affairs.

For the reasons stated in the preamble, VA amends 38 CFR part 4 as set forth below:

PART 4—SCHEDULE FOR RATING DISABILITIES

1. The authority citation for part 4 continues to read as follows:

Authority: 38 U.S.C. 1155, unless otherwise noted.

Subpart A—General Policy in Rating

2. Revise and republish § 4.10 to read as follows:

§ 4.10 Functional impairment.

The basis of disability evaluations is the ability of the body as a whole, or of the psyche, or of a system or organ of the body to function under the ordinary conditions of daily life including employment. Whether the upper or lower extremities, the back or abdominal wall, the eyes or ears, or the cardiovascular, digestive, or other system, or psyche are affected, evaluations are based upon lack of usefulness, of these parts or systems, especially in self-support. This imposes upon the medical examiner the responsibility of furnishing, in addition to the etiological, anatomical, pathological, laboratory and prognostic data required for ordinary medical classification, full description of the effects of disability upon the person's ordinary activity. In this connection, it will be remembered that a person may be too disabled to engage in employment although he or she is up and about and fairly comfortable at home or upon limited activity.

[FR Doc. 2026-03940 Filed 2-26-26; 8:45 am]

BILLING CODE 8320-01-P